INTERNATIONAL TRADE COMMISSION

[Investigation Nos. 701-TA-469 and 731-TA-1168 (Final)]

Certain Seamless Carbon and Alloy Steel Standard, Line, and Pressure Pipe From China

Determination

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is threatened with material injury by reason of imports from China of certain seamless carbon and alloy steel standard, line, and pressure pipe (“seamless SLP pipe”), provided for in subheadings 7304.19.10, 7304.19.50, 7304.31.30, 7304.31.60, 7304.39.00, 7304.51.50, 7304.59.60, and 7304.59.80 of the Harmonized Tariff Schedule of the United States, that the U.S. Department of Commerce has determined are subsidized and sold in the United States at less than fair value (“LTFV”).² ³

¹ The record is defined in § 207.2(f) of the Commission's Rules of Practice and Procedure (19 CFR 207.2(f)).

² Commissioner Charlotte R. Lane determines that the domestic seamless SLP pipe industry is materially injured by reason of imports of the subject merchandise from China.

³ Chairman Deanna Tanner Okun, Commissioner Daniel R. Pearson, Commissioner Shara L. Aranoff, Commissioner Irving A. Williamson, and Commissioner Dean A. Pinkert determine that they would not have found material injury but for the suspension of liquidation.

Background

The Commission instituted these investigations effective September 16, 2009, following receipt of a petition filed with the Commission and Commerce by U.S. Steel Corp, Pittsburgh, PA and V&M Star L.P., Houston, TX.⁴ The final phase of the investigations was scheduled by the Commission following notification of preliminary determinations by Commerce that imports of seamless SLP pipe from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 11, 2010 (75 FR 26273). The hearing was held in Washington, DC, on September 14, 2010, and all persons who requested the opportunity were permitted to appear in person or by counsel. The Commission transmitted its determination in these investigations to the Secretary of Commerce on November 4, 2010. The views of the Commission are contained in USITC Publication 4190 (November 2010), entitled Certain Seamless Carbon and Alloy Steel Standard, Line, and Pressure Pipe from China: Investigation Nos. 701-TA-469 and 731-TA-1168 (Final).

⁴ On September 25, 2009, the petition was amended to add TMK IPSCO and The United Steel, Paper and Forestry, Rubber, Manufacturing, Energy, Allied Industrial and Service Worker International Union (“USW”) as additional petitioners.

By order of the Commission.
Issued: November 4, 2010.
Marilyn R. Abbott,
Secretary to the Commission.

[FR Doc. 2010-28323 Filed 11-9-10; 8:45 am]

BILLING CODE 7020-02-P